DEPARTMENT OF THE TREASURY

Customs Service

Notice of Cancellation of Customs Broker License

AGENCY: Customs Service, Department of the Treasury.

ACTION: General notice.

SUMMARY: Pursuant to section 641 of the Tariff Act of 1930, as amended, (19 USC 1641) and the Customs Regulations (19 CFR 111.51), the following Customs broker licenses and any and all associated local and national permits are canceled without prejudice.

Name | License No. | Port name
Arthur J. Humphries, Inc | 04197 | Seattle
Inter-Cargo SWF | 17455 | Tampa
Liberty International, Inc | 07491 | Boston
Stone & Downer Company | 00161 | Boston
Border Brokerage Company, Inc | 03389 | Seattle
Unitrans International Corporation | 06728 | San Francisco

Liberty International, Inc. and Unitrans International Corporation continue to hold valid Customs broker licenses issued through other broker districts.

Dated: August 12, 2002.
Jayson P. Ahern,
Assistant Commissioner, Office of Field Operations.

[FR Doc. 02-21112 Filed 8-19-02; 8:45 am]

BILLING CODE 4820-02-P